DEPARTMENT OF DEFENSE

Department of the Army

Availability for Non-Exclusive, Exclusive, or Partially Exclusive Licensing of U.S. Patent Application Concerning Portable Thermocyler

AGENCY: Department of the Army, DoD.

ACTION: Notice.

SUMMARY: In accordance with 37 CFR 404.6 and 404.7, announcement is made of the availability for licensing of U.S. Patent Application No. 10/668,365 entitled “Portable Thermocycler,” filed September 24, 2003. Foreign rights are also available (PCT/US03/29749). The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: This invention relates to a portable thermocycler having a unique geometric configuration, which allows the device to be made durable, compact and adapted for field-use. In general, the device includes a case, a rotary plate having a plurality of constant temperature heating blocks and a plurality of sample wheels, wherein the wheels are rotatable and pivotable to allow a plurality of reaction vessels, organized in cassettes, to be moved into contact with the heating blocks for heat transfer applications.

Brenda S. Bowen,
Army Federal Register Liaison Officer.

[FR Doc. 04-20112 Filed 9-2-04; 8:45 am]

BILLING CODE 3710-08-M